ENVIRONMENTAL PROTECTION AGENCY

[FRL-6920-1]

Office of Research and Development Board of Scientific Counselors, Executive Committee Meeting

AGENCY: Environmental Protection Agency (EPA).

ACTION: Notice of meeting.

SUMMARY: Pursuant to the Federal Advisory Committee Act, Public Law 92-463, as amended (5 U.S.C., App. 2) notification is hereby given that the Environmental Protection Agency, Office of Research and Development (ORD), Board of Scientific Counselors (BOSC), will hold an Executive Committee Meeting.

DATES: The Meeting will be held on January 25-26, 2001. On Thursday, January 25, the meeting will begin at 9:00 a.m., and will recess at 4:30 p.m. On Friday, January 26, the meeting will reconvene at 9:00 a.m. and will adjourn at approximately 1:00 p.m. All times noted are Eastern Time.

ADDRESSES: The meeting will be held at the Ritz Carlton, Pentagon City, 1250 South Hayes Street, Arlington, Virginia 22202, (703) 415-5000.

SUPPLEMENTARY INFORMATION: Agenda items will include, but not be limited to: BOSC upcoming activities, including Sub-Committee Appointments and Charge, Review of EPA-ORD Communications, and ORD Multi-year Plans discussion.

Anyone desiring a draft agenda may fax their request to Shirley R. Hamilton (202) 565-2444. The meeting is open to the public. Any member of the public wishing to make a presentation at the meeting should contact Shirley Hamilton, Designated Federal Officer, U.S. Environmental Protection Agency, Board of Scientific Counselors, Office of Research and Development (8701R), 1200 Pennsylvania Avenue, NW., Washington, DC 20460; or by telephone at (202) 564-6853. In general each individual making an oral presentation will be limited to a total of three minutes.

FOR FURTHER INFORMATION CONTACT: Shirley R. Hamilton, Designated Federal Officer, U.S. Environmental Protection Agency, Office of Research and Development, (8701R), 1200 Pennsylvania Avenue, NW., Washington, DC 20460, (202) 564-6853.

Dated: December 14, 2000.
Peter W. Preuss,
Director, National Center for Environmental Research.

[FR Doc. 00-32560 Filed 12-20-00; 8:45 am]

BILLING CODE 6560-50-P